DEPARTMENT OF TRANSPORTATION

Federal Aviation Administration

14 CFR Part 71

[Airspace Docket No. 00-ASO-9]

Amendment to Class D and Class E5 Airspace, Greenwood, MS

AGENCY: Federal Aviation Administration (FAA), DOT.

ACTION: Final rule.

SUMMARY: This action amends Class D and E airspace at Greenwood—Leflore Airport, Greenwood, MS. An Area Navigation (RNAV) Runway (RWY) 18 Standard Instrument Approach Procedure (SIAP) has been developed for Greenwood, MS. As a result, additional controlled airspace extending upward from the surface and extending upward from 700 feet Above Ground Level (AGL) is needed to accommodate the SIAP. This action also makes a technical change by amending the name of the VORTAC from Greenwood to Sidon.

EFFECTIVE DATE: 0901 UTC, October 5, 2000.

FOR FURTHER INFORMATION CONTACT: Nancy B. Shelton, Manager, Airspace Branch, Air Traffic Division, Federal Aviation Administration, P.O. Box 20636, Atlanta, Georgia 30320; telephone (404) 305-5627.

SUPPLEMENTARY INFORMATION:

History

On April 19, 2000, the FAA proposed to amend part 71 of the Federal Aviation Regulations (14 CFR part 71) by amending Class D and E airspace at Greenwood—Leflore Airport, Greenwood, MS. This action would provide adequate Class D and E airspace at the airport for the RNAV RWY 18 SIAP. Class D airspace designations are published in Paragraph 5000, Class E4 airspace designations are published in Paragraph 6004 and Class E5 airspace designations are published in Paragraph 6005 of FAA Order 7400.9G, dated September 1, 1999, and effective September 16, 1999, which is incorporated by reference in 14 CFR 71.1, dated September 1, 1999. The Class D and E airspace designations listed in this document will be published subsequently in the Order.

Interested parties were invited to participate in this rulemaking proceeding by submitting written comments on the proposal to the FAA. No comments objecting to the proposal were received.

The Rule

This amendment to Part 71 of the Federal Aviation Regulations (14 CFR part 71) amends Class D and E airspace at Greenwood—Leflore Airport, Greenwood, MS. This action also makes a technical change by amending the name of the VORTAC from Greenwood to Sidon.

The FAA has determined that this regulation only involves an established boy of technical regulations for which frequent and routine amendments are necessary to keep them operationally current. It, therefore, (1) is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule will not have a significant economic impact on a substantial number of small entities under the criteria of the Regulatory Flexibility Act.

List of Subjects in 14 CFR part 71

Airspace, Incorporated by reference, Navigation (air).

Adoption of the Amendment

In consideration of the foregoing, the Federal Aviation Administration amends 14 CFR Part 71 as follows:

PART 71—DESIGNATION OF CLASS A, CLASS B, CLASS C, CLASS D AND CLASS E AIRSPACE AREAS; AIRWAYS; ROUTES; AND REPORTING POINTS

1. The authority citation for 14 CFR Part 71 continues to read as follows:

Authority: 49 U.S.C. 106(g); 40103, 40113, 40120; EO 10854, 24 FR 9565, 3 CFR, 1959-1963 Comp., p. 389; 14 CFR 11.69

§ 71.1 [Amended]

2. The incorporation by reference in 14 CFR 71.1 of Federal Aviation Administration Order 7400.9G, Airspace Designations and Reporting Points, dated September 1, 1999, and effective September 16, 1999, is amended as follows:

Paragraph 5000 Class D Airspace.

* * * * *

ASO MS D Greenwood, MS [Revised]

Greenwood—Leflore Airport, MS

(Lat. 33°29′40″ N, long. 90°05′05″ W)

Sidon VORTAC

(Lat. 33°27′50″N, long. 90°16′38″W)

That airspace extending upward from the surface, to and including 2,700 feet MSL within a 4.4-mile radius of the Greenwood—Leflore Airport. This Class D airspace area is effective during the specific dates and times established in advance by a Notice to Airmen. The effective dates and times will thereafter be continuously published in the Airport/Facility Directory.

* * * * *

Paragraph 6004 Class E Airspace Areas Designated as an Extension to a Class D Airspace Area.

* * * * *

ASO MS E4 Greenwood, MS [Revised]

Greenwood—Leflore Airport, MS

(Lat. 33°29′40″N, long. 90°05′05″W)

That airspace extending upward from the surface within 1.4 miles each side of the Sidon VORTAC 079° radial, extending from the 4.4-miles radius of Greenwood—Leflore Airport to 4 miles east of the VORTAC. This Class E airspace area is effective during the specific dates and times established in advance by a Notice to Airmen. The effective dates and times will thereafter be continuously published in the Airport/Facility Directory.

* * * * *

Paragraph 6005 Class E Airspace Areas Extending Upward from 700 feet or More Above the Surface of the earth.

* * * * *

ASO MS E5 Greenwood, MS [Revised]

Greenwood—Leflore Airport, MS

(Lat. 33°29′40″N, long. 90°05′05″W)

Sidon VORTAC

(Lat. 33°27′50″N, long. 90°16′38″W)

That airspace extending upward from 700 feet above the surface within a 6.9-mile radius of Greenwood Airport and within 1.2 miles each side of the Sidon VORTAC 079° radial, extending from the 6.9-mile radius to 2 miles each of the VORTAC

* * * * *

Issued in College Park, Georgia, on June 12, 2000.
John Thompson,
Acting Manager, Air Traffic Division, Southern Region.

[FR Doc. 00-15950 Filed 6-22-00; 8:45 am]

BILLING CODE 4910-13-M